DEPARTMENT OF HEALTH AND HUMAN SERVICES

Administration for Children and Families

Proposed Information Collection Activity; Comment Request

Title: Job Search Assistance (JSA) Strategies Evaluation.

OMB No.: 0970-0440.

Description: The Administration for Children and Families (ACF) is proposing a data collection activity as part of the Job Search Assistance (JSA) Strategies Evaluation. The JSA evaluation will aim to determine which JSA strategies are most effective in moving TANF applicants and recipients into work. The impact study will randomly assign individuals to contrasting JSA approaches and then compare their employment and earnings to determine their relative effectiveness. The implementation study will describe services participants receive under each approach as well as provide operational lessons gathered directly from practitioners.

The proposed information collection activity consists of: (1) Baseline data collection: Collection of baseline data from TANF recipients at the time of enrollment in the study; (2) Implementation study site visits: Conducting site visits for the purpose of documenting the program context, program organization and staffing, the components JSA services, and other relevant aspects of the TANF program. During the visits, site teams will interview key administrators and line staff using a semi-structured interview guide; and (3) a JSA staff survey. This on-line survey, administered to TANF supervisory and line staff involved in JSA activities, will be used as part of the implementation study to systematically document program operations and the type of JSA services provided across the study sites.

Respondents: JSA program staff and individuals enrolled in the JSA study.

Annual Burden Estimates
Instrument | Annual number of respondents | Number of responses per respondent | Average burden hours per response | Total annual burden hours
Baseline information form | 25,000 | 1 | 0.2 | 5,000
Implementation study site visits | 300 | 1 | 1 | 300
JSA staff survey | 660 | 1 | 0.33 | 218
Estimated Total Annual Burden Hours |  |  |  | 5,518

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Karl Koerper,
Reports Clearance Officer.

[FR Doc. 2014-13525 Filed 6-10-14; 8:45 am]

BILLING CODE 4184-09-P